INTERNATIONAL TRADE COMMISSION

[Investigation No. 337-TA-1339]

Certain Smart Thermostat Hubs, Systems Containing the Same, and Components of the Same; Notice of Commission Determination Not To Review an Initial Determination Granting Complainants' Motion for Leave To Amend the Complaint and Notice of Investigation

AGENCY: U.S. International Trade Commission.

ACTION: Notice.

SUMMARY: Notice is hereby given that the U.S. International Trade Commission has determined not to review an initial determination (“ID”) (Order No. 9) of the presiding administrative law judge (“ALJ”) granting the complainants' motion for leave to amend the complaint and notice of investigation to add ITI Hong Kong Co., Ltd of Tsuen Wan, Hong Kong (“ITI”) as an additional respondent.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 24, 2022, the Commission instituted this investigation under section 337 of the Tariff Act of 1930, as amended, 19 U.S.C. 1337 (“section 337”), based on a complaint filed by EDST, LLC and Quext IoT, LLC, both of Lubbock, Texas (collectively, “Complainants”). See 87 FR 64247 (Oct. 24, 2022). The complaint, as supplemented, alleges a violation of section 337 based upon the importation into the United States, sale for importation, or sale after importation into the United States of certain smart thermostat hubs, systems containing the same, and components of the same by reason of the infringement of certain claims of U.S. Patent Nos. 10,825,273; 10,803,685; and 11,189,118. Id. The complaint further alleges that a domestic industry exists. Id. The notice of investigation names iApartments, Inc. of Tampa, Florida; and Hsun Wealth Technology Co., Ltd. and Huarifu Technology Co., Ltd. (“Huarifu”), both of Taoyuan City, Taiwan, as respondents. Id. The Office of Unfair Import Investigations is not participating in this investigation.

The Commission previously terminated the investigation as to respondent Huarifu based on Complainants' partial withdrawal of the complaint. Order No. 5 (Nov. 9, 2022), unreviewed by Comm'n Notice (Dec. 2, 2022).

On December 1, 2022, Complainants filed an unopposed motion to amend the complaint to add ITI as a respondent. No response to the unopposed motion was filed.

On December 7, 2022, the ALJ issued the subject ID (Order No. 9) granting Complainants' unopposed motion for leave to amend the complaint and notice of investigation. Order No. 9 (December 7, 2022). The subject ID finds that Complainants' unopposed motion is supported by good cause pursuant to Commission Rule 210.14(b) (19 CFR 210.14(b)) and that there is no prejudice to any party if the motion is granted.

No party petitioned for review of the subject ID.

The Commission has determined not to review the subject ID (Order No. 9). ITI is added as a respondent to the investigation.

The Commission vote for this determination took place on December 21, 2022.

The authority for the Commission's determination is contained in section 337 of the Tariff Act of 1930, as amended (19 U.S.C. 1337), and in Part 210 of the Commission's Rules of Practice and Procedure (19 CFR part 210).

By order of the Commission.
Issued: December 21, 2022.
Katherine Hiner,
Acting Secretary to the Commission.

[FR Doc. 2022-28193 Filed 12-27-22; 8:45 am]

BILLING CODE 7020-02-P